DEPARTMENT OF HEALTH AND HUMAN SERVICES

Food and Drug Administration

[FDA 225-03-8001]

Memorandum of Understanding Between the Food and Drug Administration and the Centers for Disease Control

AGENCY: Food and Drug Administration, HHS.

ACTION: Notice.

SUMMARY: The Food and Drug Administration (FDA) is providing notice of a memorandum of understanding (MOU) between the Food and Drug Administration (FDA) and the Centers for Disease Control. The purpose of the MOU is to provide a framework for coordination and cooperation between the two agencies and to provide the principles and procedures by which information exchanges shall take place.

DATES: The agreement became effective June 19, 2003.

FOR FURTHER INFORMATION CONTACT: Ellen F. Morrison, Emergency Operations Center (HFC-160), Food and Drug Administration, 5600 Fishers Lane, Rockville, MD 20857, 301-827-5660.

SUPPLEMENTARY INFORMATION: In accordance with 21 CFR 20.108(c), which states that all written agreements and MOUs between FDA and others shall be published in the Federal Register, the agency is publishing notice of this MOU.

Dated: November 13, 2003.
Jeffrey Shuren,
Assistant Commissioner for Policy.

BILLING CODE 4160-01-S

[FR Doc. 03-29497 Filed 11-25-03; 8:45 am]

BILLING CODE 4160-01-C